DEPARTMENT OF LABOR

Employment and Training Administration

[TA-W-51,882]

BASF Corporation, Hannibal, MO; Notice of Termination of Investigation

Pursuant to section 221 of the Trade Act of 1974, an investigation was initiated on May 28, 2003 in response to a worker petition filed on behalf of workers at BASF Corporation, Hannibal, Missouri, employed as leased workers at Alpharma, Inc., Animal Health Division, Hannibal Manufacturing Plant, Palmyra, Missouri.

The petitioning group of workers is covered by an active certification issued on April 30, 2003 and which remains in effect (TA-W-51,349). Consequently, further investigation in this case would serve no purpose, and the investigation has been terminated.

Signed at Washington, DC, this 17th day of June 2003.
Richard Church,
Certifying Officer, Division of Trade Adjustment Assistance.

[FR Doc. 03-17454 Filed 7-9-03; 8:45 am]

BILLING CODE 4510-30-P